DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held March 20, 2013, from 8:30 a.m.-1:30 p.m.

ADDRESSES: The meeting will be held at RTCA, Inc., 1150 18th Street NW., Suite 910, Washington, DC, 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

March 20, 2013

• Welcome and Introductions.

• Review/Approve Meeting Summary.

• Publication Consideration/Approval

• Final Draft, New Document, Guidelines for Verification and Validation of Aerodrome Mapping Databases (AMDB) Aerodrome Surface Routing Networks (ASRN) for Routing Application, prepared by SC-217.

• Final Draft, New Document, Minimum Aviation System Performance Standards (MASPS) for the Aeronautical Mobile-satellite (R) Service (AMS(R)S), prepared by SC-222.

• Final Draft, Change 2 to DO-185B, Minimum Operational Standards for Traffic Alert and Collision Avoidance System II (TCAS II), prepared by SC-147.

• Final Draft, Revised DO-300, Minimum Operational Performance Standards (MOPS) for Traffic Alert and Collision Avoidance System II (TCAS II) Hybrid Surveillance, prepared by SC-147.

• Integration and Coordination Committee (ICC)—Report

• Review/Approve, Aircraft System-level Installation Guidance (ASIG) Drafting Guide, prepared by the ICC.

• Inter-Special Committee Requirements Agreement (ISRA) Guidance- Process Review and Recommendations.

• Action Item Review

• PMC Ad Hoc Report- Unmanned Aircraft Systems (UAS) Standards- Discussion- Proposed Terms of Reference.

• Discussion

• SC-135—Environmental Testing—Discussion—Revised Terms of Reference.

• SC-147—Traffic Alert & Collision Avoidance System—Discussion—Revised Terms of Reference.

• SC-206—Aeronautical Information Services (AIS) Data Link—Discussion—Revised Terms of Reference.

• SC-214—Standards for Air Traffic Data Communications Services—Discussion—Revised Terms of Reference.

• SC-222—Inmarsat AMS(R)S—Discussion—Revised Terms of Reference

• NAC—Status Update.

• FAA Actions Taken on Previously Published Documents—Report.

• Special Committees—Chairmen's Reports and Active Inter-Special Committee Requirements Agreements—Review.

• European/EUROCAE Coordination—Status Update.

• RTCA Award Nominations—Consideration/Approval.

• Other Business

• Schedule for Committee Deliverables and Next Meeting Date

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on February 27, 2013.
Paige Williams,
Management Analyst, NextGen, Business Operations Group, Federal Aviation Administration.

[FR Doc. 2013-04880 Filed 3-1-13; 8:45 am]

BILLING CODE 4910-13-P